NATIONAL AERONAUTICS AND SPACE ADMINISTRATION

[Notice 04-013]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: January 29, 2004.

FOR FURTHER INFORMATION CONTACT: Randy Heald, Patent Counsel, Kennedy Space Center, Mail Code CC-A, Kennedy Space Center, FL 32899; telephone (321) 867-7214; fax (321) 867-1817.

NASA Case No. KSC-12187: Fail Safe, Continue-To-Operate Device for Jackscrews;

NASA Case No. KSC-12236: Flame Suppression Agent, System and Uses;

NASA Case No. KSC-12246-2: Zero-Valent Metal Emulsion for Reductive Dehalogenation of DNAPLs;

NASA Case No. KSC-12246-3: Zero-Valent Metal Emulsion for Reductive Dehalogenation of DNAPLs;

NASA Case No. KSC-12386—Wireless Instrumentation System and Power Management;

NASA Case No. KSC-12394: Hypothesis Support Mechanism for Mid-Level Visual Pattern Recognition;

NASA Case No. KSC-12539: Self-Healing Wire Insulation.

Dated: January 21, 2004
Robert M. Stephens,
Deputy General Counsel.

[FR Doc. 04-1848 Filed 1-28-04; 8:45 am]

BILLING CODE 7510-01-P